ENVIRONMENTAL PROTECTION AGENCY

[EPA-EPA-HQ-OAR-2003-0085; FRL-9931-71-OEI]

Proposed Information Collection Request; Comment Request; NESHAP for Radionuclides (Renewal)

AGENCY: Environmental Protection Agency (EPA).

ACTION: Notice.

SUMMARY: The Environmental Protection Agency is planning to submit an information collection request (ICR), “NESHAP for Radionuclides (Renewal)” (EPA ICR No. 1100.15, OMB Control No. 2060-0249) to the Office of Management and Budget (OMB) for review and approval in accordance with the Paperwork Reduction Act (44 U.S.C. 3501 et seq.). Before doing so, EPA is soliciting public comments on specific aspects of the proposed information collection as described below. This is a proposed extension of the ICR. An Agency may not conduct or sponsor and a person is not required to respond to a collection of information unless it displays a currently valid OMB control number.

DATES: Comments must be submitted on or before September 29, 2015.

ADDRESSES: Submit your comments, referencing the above referenced Docket ID Number online using www.regulations.gov (our preferred method), or by mail to: EPA Docket Center, Environmental Protection Agency, Mail Code 28221T, 1200 Pennsylvania Ave. NW., Washington, DC 20460.

EPA's policy is that all comments received will be included in the public docket without change including any personal information provided, unless the comment includes profanity, threats, information claimed to be Confidential Business Information (CBI) or other information whose disclosure is restricted by statute.

FOR FURTHER INFORMATION CONTACT: Philip Egidi, Radiation Protection Division, Office of Radiation and Indoor Air, Mail Code 6608J, Environmental Protection Agency, 1200 Pennsylvania Ave. NW., Washington, DC 20460; telephone number: (202) 343-9186; fax number: (202) 343-2304; email address: egidi.philip@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: In the context of the Clean Air Act (42 U.S.C. 1857), Section 114 authorizes the Administrator of EPA to require any person who owns or operates any emission source or who is subject to any requirements of the Act to: (1) Establish and maintain records, (2) make reports, install, use, and maintain monitoring equipment or method, (3) sample emissions in accordance with EPA prescribed locations, intervals and methods, and (4) provide information as may be requested. EPA's regional offices use the information collected to ensure that public health continues to be protected from the hazards of radionuclides by compliance with health based standards. This information is required for those facilities meeting the definition of each Subpart. EPA's compliance monitoring activities vary widely. EPA could issue a letter requesting information about compliance or could conduct a full-scale investigation, including on site inspections. The information required to be submitted is not confidential in nature.

Respondents/affected entities: The NAICS Codes of facilities associated with the activity of the respondents are: (1) Elemental Phosphorous 325188, (2) Phosphogypsum Stacks 212392, (3) Underground Uranium Mines 212291, and (4) Uranium Mill Tailings 212291

Respondent's obligation to respond: Mandatory.

Estimated number of respondents: 20 (total).

Frequency of response: Initially (Once), Annually, Random (Occasionally).

Total estimated burden: 2,872 hours (per year). Burden is defined at 5 CFR 1320.03(b).

Total estimated cost: $500,572, which includes $283,460 in annualized capital and O&M costs.

Changes in Estimates: The final ICR submitted to OMB will contain revised burden estimates that reflect any changes to the collection over the past three years and any public comments received.

Courtney Kerwin,
Acting Director, Collections Strategies Division.

[FR Doc. 2015-18717 Filed 7-30-15; 8:45 am]

BILLING CODE 6560-50-P